DEPARTMENT OF LABOR

Employment and Training Administration

[TA-W-40,726]

Liberty Manufacturing; Liberty, SC; Notice of Termination of Investigation

Pursuant to section 221 of the Trade Act of 1974, an investigation was initiated on April 29, 2002, in response to a petition filed by a company official on behalf of workers at Liberty Manufacturing, Liberty, South Carolina.

An active certification covering the petitioning worker group of workers remains in effect (TA-W-40,663). Consequently, further investigation in this case would serve no purpose and the investigation has been terminated.

Signed in Washington, DC, this 2nd day of May, 2002.
Linda G. Poole,
Certifying Officer, Division of Trade Adjustment Assistance.

[FR Doc. 02-12386 Filed 5-16-02; 8:45 am]

BILLING CODE 4510-30-M